DEPARTMENT OF THE INTERIOR

National Park Service

[NPS-WASO-NAGPRA-18596; PPWOCRADN0-PCU00RP14.R50000]

Notice of Intent To Repatriate a Cultural Item: The University of Iowa Museum of Natural History, Iowa City, IA

AGENCY: National Park Service, Interior.

ACTION: Notice.

SUMMARY: The University of Iowa Museum of Natural History, in consultation with the appropriate Indian tribes or Native Hawaiian organizations, has determined that the cultural item listed in this notice meets the definition of an object of cultural patrimony. Lineal descendants or representatives of any Indian tribe or Native Hawaiian organization not identified in this notice that wish to claim this cultural item should submit a written request to the University of Iowa Museum of Natural History. If no additional claimants come forward, transfer of control of the cultural item to the lineal descendants, Indian tribes, or Native Hawaiian organizations stated in this notice may proceed.

DATES: Lineal descendants or representatives of any Indian tribe or Native Hawaiian organization not identified in this notice that wish to claim this cultural item should submit a written request with information in support of the claim to the University of Iowa Museum of Natural History at the address in this notice by September 4, 2015.

ADDRESSES: Dr. Trina Roberts, Museum of Natural History, 11 Macbride Hall, The University of Iowa, Iowa City, IA 52242, telephone (319) 335-1313, email trina-roberts@uiowa.edu.

SUPPLEMENTARY INFORMATION: Notice is here given in accordance with the Native American Graves Protection and Repatriation Act (NAGPRA), 25 U.S.C. 3005, of the intent to repatriate a cultural item under the control of the University of Iowa Museum of Natural History, Iowa City, IA, that meets the definition of an object of cultural patrimony under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

In November 1983 Betty S. Webber and Catherine S. Chandler donated one bear claw necklace to the University of Iowa Museum of Natural History along with other cultural items owned by their father, Fred Armstrong Soleman, which were purchased or received as gifts during his career in Tama, IA. The bear claw necklace was accessioned by the University of Iowa Museum of Natural History as SUI 33914. The bear claw necklace was identified as an object of cultural patrimony by Jonathan Buffalo, Historical Preservation Director of the Sac & Fox Tribe of the Mississippi in Iowa, in a letter dated February 3, 2015.

Consultation with the Sac & Fox Tribe of the Mississippi in Iowa confirmed both that this object fits the definition of an object of cultural patrimony under NAGPRA and that it was collected in or around the boundaries of the traditional property of the Sac & Fox Tribe of the Mississippi in Iowa.

Determinations Made by the University of Iowa Museum of Natural History

Officials of the University of Iowa Museum of Natural History have determined that:

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the bear claw necklace and the Sac & Fox Tribe of the Mississippi in Iowa.

Additional Requestors and Disposition

Lineal descendants or representatives of any Indian tribe or Native Hawaiian organization not identified in this notice that wish to claim these cultural items should submit a written request with information in support of the claim to Dr. Trina Roberts, Museum of Natural History, 11 Macbride Hall, The University of Iowa, Iowa City, IA 52242, telephone (319) 335-1313, email trina-roberts@uiowa.edu, by September 4, 2015. After that date, if no additional claimants have come forward, transfer of control of the object of cultural patrimony to the Sac & Fox Tribe of the Mississippi in Iowa may proceed.

The University of Iowa Museum of Natural History is responsible for notifying the Sac & Fox Tribe of the Mississippi in Iowa that this notice has been published.

Dated: June 29, 2015.
Melanie O'Brien,
Manager, National NAGPRA Program.

[FR Doc. 2015-19264 Filed 8-4-15; 8:45 am]

BILLING CODE 4312-50-P